DEPARTMENT OF JUSTICE

Notice of Lodging of Consent Decree Under the Clean Air Act and the Resource Conservation and Recovery Act

Under 28 CFR 50.7, notice is hereby given that on February 20, 2008, a proposed Consent Decree (“Consent Decree”) in the matter of United States v. Bridgeport United Recycling, Inc. and United Oil Recovery, Inc., Civil Action No. 3:08CV247 (JBA), was lodged with the United States District Court for the District of Connecticut.

In the complaint in this matter, the United States sought injunctive relief and penalties against Bridgeport United Recycling, Inc. (“BUR”) and United Oil Recovery, Inc. (“UOR”) for claims arising under the Resource Conservation and Recovery Act (“RCRA”), 42 U.S.C. 6901 et seq., in connection with the operation of BUR's hazardous waste treatment, storage, and disposal facility located in Bridgeport, Connecticut and UOR's hazardous waste treatment, storage, and disposal facility located in Meriden, Connecticut. Under the Consent Decree, BUR will automate and upgrade the air emission control system used at the Bridgeport facility and pay a civil penalty of $205,798.00. Under the Consent Decree, UOR will pay a civil penalty of $119,392.00.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to United States v. Bridgeport United Recycling, Inc. and United Oil Recovery, Inc., D.J. Ref. No. 90-7-1-08350. Commenters may request an opportunity for a public meeting in the affected area, in accordance with Section 7003(d) of RCRA, 42 U.S.C. 6973(d).

The Consent Decree may be examined at the Office of the United States Attorney, Connecticut Financial Center, 157 Church Street, Floor 23, New Haven, CT 06510, and at U.S. EPA Region I, Robert F. Kennedy Federal Building, Boston, Massachusetts 02203-2211. During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax number (202) 514-0097, phone confirmation number (202) 514-1547. In requesting a copy from the Consent Decree Library, please enclose a check in the amount of $8.00 (25 cents per page reproduction cost) payable to the U.S. Treasury, or, if by email or fax, forward a check in that amount to the Consent Decree Library at the stated address.

Maureen Katz,
Assistant Section Chief, Environmental Enforcement Section, Environment and Natural Resources Division.

[FR Doc. E8-4608 Filed 3-7-08; 8:45 am]

BILLING CODE 4410-CW-P